ENVIRONMENTAL PROTECTION AGENCY

40 CFR Parts 79, 80, 86, 1037, and 1090

[EPA-HQ-OAR-2018-0227; FRL-10009-56-OAR]

RIN 2060-AT31

Public Hearing for Fuels Regulatory Streamlining

AGENCY: Environmental Protection Agency (EPA).

ACTION: Notification of public hearing.

SUMMARY: The Environmental Protection Agency (EPA) is announcing a virtual public hearing to be held May 28, 2020, on its proposal for the “Fuels Regulatory Streamlining Rule,” which was signed on April 13, 2020. EPA is proposing to update its existing gasoline, diesel, and other fuels programs to improve overall compliance assurance and maintain environmental performance, while reducing compliance costs for industry and EPA.

DATES: EPA will hold a virtual public hearing on May 28, 2020. Please refer to the SUPPLEMENTARY INFORMATION section for additional information on the public hearing.

ADDRESSES: The virtual public hearing will be held on May 28, 2020. The hearing will begin at 10:00 a.m. Eastern Time (ET) and end when all parties who wish to speak have had an opportunity to do so. All hearing attendees (including even those who do not intend to provide testimony) should notify the contact person listed under FOR FURTHER INFORMATION CONTACT by May 21, 2020. Additional information regarding the hearing appears below under SUPPLEMENTARY INFORMATION.

FOR FURTHER INFORMATION CONTACT: Nick Parsons, Office of Transportation and Air Quality, Assessment and Standards Division, Environmental Protection Agency, 2000 Traverwood Drive, Ann Arbor, MI 48105; telephone number: 734-214-4479; email address: ASD-Registration@epa.gov.

SUPPLEMENTARY INFORMATION: EPA is proposing to streamline its existing fuel quality regulations in 40 CFR part 80 by removing expired provisions, eliminating redundant compliance provisions (e.g., duplicative registration requirements that are required by every EPA fuels program), removing unnecessary and out-of-date requirements, and replacing them with a single set of provisions and definitions in 40 CFR part 1090 that will apply across all gasoline, diesel, and other fuels programs that EPA currently regulates. This action does not propose to change the stringency of the existing fuel quality standards. The Fuels Regulatory Streamlining proposal was signed on April 13, 2020, and will be published separately in the Federal Register. The pre-publication version is available at https://www.epa.gov/diesel-fuel-standards/fuels-regulatory-streamlining.

Participation in virtual public hearing. Please note that EPA is deviating from its typical approach because the President has declared a national emergency. Because of current CDC recommendations, as well as state and local orders for social distancing to limit the spread of COVID-19, EPA cannot hold in-person public meetings at this time.

The virtual public hearing will provide interested parties the opportunity to present data, views, or arguments concerning the proposal (which is available at https://www.epa.gov/diesel-fuel-standards/fuels-regulatory-streamlining). EPA may ask clarifying questions during the oral presentations but will not respond to the presentations at that time. Written statements and supporting information submitted during the comment period will be considered with the same weight as any oral comments and supporting information presented at the public hearing. EPA recommends submitting the text of your oral comments as written comments to the rulemaking docket. Written comments must be received by the last day of the comment period, as specified in the notice of proposed rulemaking.

EPA is also asking all hearing attendees to pre-register for the hearing, even those who do not intend to provide testimony. This will help EPA ensure that sufficient phone lines will be available.

Please note that any updates made to any aspect of the hearing logistics, including potential additional sessions, will be posted online at the EPA's Fuels Regulatory Streamlining website (https://www.epa.gov/diesel-fuel-standards/fuels-regulatory-streamlining). While EPA expects the hearing to go forward as set forth above, please monitor our website or contact the person listed in the FOR FURTHER INFORMATION CONTACT section to determine if there are any updates.

If you require the services of a translator or special accommodations such as audio description, please pre-register for the hearing and describe your needs by May 21, 2020. EPA may not be able to arrange accommodations without advanced notice.

How can I get copies of the proposed action and other related information? EPA has established a docket for this action under Docket ID No. EPA-HQ-OAR-2018-0227. EPA has also developed a website for the Fuels Regulatory Streamlining rule, including the proposal, which is available at https://www.epa.gov/diesel-fuel-standards/fuels-regulatory-streamlining. Please refer to the notice of proposed rulemaking for detailed information on accessing information related to the proposal.

Dated: May 14, 2020.
Karl Moor,
Deputy Assistant Administrator, Office of Air and Radiation.

[FR Doc. 2020-10833 Filed 5-18-20; 8:45 am]

BILLING CODE 6560-50-P